DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Coordinating Council on Wednesday, October 24, 2001. The meeting begins at 8:30 a.m. with a Breakfast Business Meeting (#41).

Note: There is a Coordinating Council Workshop on Tuesday, October 23, 2001 from 12:30 p.m.-6:30 p.m. The Council mission and objectives will be discussed. The recommended actions will be reported out on Wednesday, October 24, 2001, from 10:15 a.m.-12 p.m.

The letter designations that follow each item mean the following: (I) is an information item; (A) is an action item; (D) is a discussion item. The General Session includes the following items: (1) Housekeeping Items: Welcome, Introductions, Antitrust statement, previous minutes, etc. (I); (2) US DOT Federal Report (I/D); (3) President's Report (I/D); (4) Advanced Construction Management Systems Task Force (D/A); (5) Committee Reports/Updates/Issues (TBD); (6) Closing Housekeeping (Next meeting dates/locations; (7) Adjournment.

ITS AMERICA provides a forum for national discussion and recommendations on ITS activities including programs, research needs, strategic planning, standards, international liaison, and priorities.

The charter for the utilization of ITS AMERICA establishes this organization as an advisory committee under the Federal Advisory Committee Act (FACA) 5 U.S.C. app. 2, when it provides advice or recommendations to DOT officials on ITS policies and programs. (56 FR 9400, March 6, 1991).

DATES: The Coordinating Council of ITS AMERICA will meet on Wednesday, October 24, 2001 from 8:30 a.m.-10 a.m. Room TBA. Note: There is a Coordinating Council Workshop on Tuesday, October 23, 2001 from 12:30 p.m.—6:30 p.m. The Council mission and objectives will be discussed. The recommended actions will be reported out on Wednesday, October 24, 2001, from 10:15 a.m.-12 p.m.

ADDRESSES: Bourbon Orleans—A Wyndham Historic Hotel, 717 Orleans Street, New Orleans, Louisiana, 70116 Phone: (504) 523-2222.

FOR FURTHER INFORMATION CONTACT: Materials associated with this meeting may be examined at the offices of ITS AMERICA, 400 Virginia Avenue SW., Suite 800, Washington, DC 20024. Persons needing further information or who request to speak at this meeting should contact Debbie M. Busch at ITS AMERICA by telephone at (202) 484-2904 or by FAX at (202) 484-3483. The DOT contact is Kristy Frizzell, FHWA, HOIT, Washington, DC 20590, (202) 366-9536. Office hours are from 8:30 a.m. to 5 p.m., e.t., Monday through Friday, except for legal holidays.

(23 U.S.C. 315; 49 CFR 1.48)

Issued on: September 24, 2001.
Jeffrey Paniati,
Program Manager, ITS Joint Program Office, U.S. Department of Transportation.

[FR Doc. 01-24422 Filed 9-27-01; 8:45 am]

BILLING CODE 4910-22-P